DEPARTMENT OF ENERGY

Federal Energy Regulatory Commission

[Docket No. CP00-6-004]

Gulfstream Natural Gas System, L.L.C.; Notice of Tariff Compliance Filing

April 4, 2002.

Take notice that on March 27, 2002, Gulfstream Natural Gas System, L.L.C. (Gulfstream), tendered for filing as part of its FERC Gas Tariff, Original Volume No. 1, the tariff sheets listed in Appendix B to the filing, to be effective June 1, 2002.

Gulfstream states that it is submitting its Tariff in advance of the requirements set out in the Commission's orders issued on April 28, 2000, and February 22, 2001, in order to give parties additional time for review. The February 22, 2001 Commission order in Docket No. CP00-6-000, et al. granted Gulfstream's request for certificate authority to construct a new 744-mile interstate transmission system to transport up to 1.13 Bcf per day of natural gas to central and eastern Florida. On March 28, 2002, the Commission subsequently issued an order in Docket No. CP00-6-003 amending the certificate. Gulfstream states that its Tariff complies with Commission's Order No. 637 and NAESB requirements, but requests a waiver until January 1, 2003, to accommodate full segmentation and a waiver until June 1, 2003, to accommodate partial day recalls and releases.

Gulfstream states that complete copies of this filing are being mailed to all parties on the Commission's Official Service List in Docket No. CP00-6-000, et al.

Any person desiring to protest said filing should file a protest with the Federal Energy Regulatory Commission, 888 First Street, NE., Washington, DC 20426, in accordance with section 385.211 of the Commission's rules and regulations. All such protests must be filed on or before April 12, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-8647 Filed 4-9-02; 8:45 am]

BILLING CODE 6717-01-P